SMALL BUSINESS ADMINISTRATION

[Declaration of Disaster # 3431]

Commonwealth of Pennsylvania; and Contiguous Counties in the State of West Virginia

Washington County and the contiguous counties of Allegheny, Beaver, Fayette, Greene and Westmoreland in the Commonwealth of Pennsylvania; and Brooke, Hancock, Marshall and Ohio counties in the State of West Virginia constitute a disaster area due to damages caused by flooding and mudslides that occurred on June 13, 2002. Applications for loans for physical damage as a result of this disaster may be filed until the close of business on September 16, 2002 and for economic injury until the close of business on April 16, 2003 at the address listed below or other locally announced locations:

U.S. Small Business Administration, Disaster Area 1 Office, 360 Rainbow Blvd., South 3rd Floor, Niagara Falls, NY 14303.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury: Businesses and small agricultural cooperatives without credit available elsewhere | 3.500

The number assigned to this disaster for physical damage is 343106 for Pennsylvania and 343206 for West Virginia. For economic injury, the numbers are 9Q5400 for Pennsylvania and 9Q5500 for West Virginia.

(Catalog of Federal Domestic Assistance Program Nos. 59002 and 59008.)
Dated: July 16, 2002.
Hector V. Barreto,
Administrator.

[FR Doc. 02-18516 Filed 7-22-02; 8:45 am]

BILLING CODE 8025-01-P